DEPARTMENT OF DEFENSE

Office of the Secretary

[Docket No. DOD-2006-HA-0170]

Proposed Collection; Comment Request

AGENCY: Office of the Assistant Secretary of Defense for Health Affairs, DoD.

ACTION: Notice.

SUMMARY: In compliance with Section 3506(c)(2)(A) of the Paperwork Reduction Act of 1995, the Office of the Assistant Secretary of Defense for Health Affairs announces the proposed revision of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 20, 2006.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the TRICARE Management Activity, Attn: Lt. Col. M. Jeanne Yoder, 5111 Leesburg Pike, Suite 810, Falls Church, VA 22041-3206, or contact TRICARE Management Activity, DHP Management Control and Financial Studies Division at 703-681-3492.

Title; Associated Form; and OMB Number: Third Party Collection Program/Medical Services Account/Other Health Insurance, DD Form 2569; OMB Number 0704-0323.

Needs and Uses: The information contained in the DD Form 2569 will be used to collect reimbursement from healthcare insurers for medical care provided to dependents of Active Duty members, military retirees and their dependents, and civilians who present at a Military Treatment Facility (MTF) on an emergency basis, and anyone else who is otherwise eligible for care at the MTF. Such monetary benefits accruing to the MTF will be used to enhance healthcare delivery in the MTF. Information will also be used by MTF staff and CHAMPUS Fiscal Intermediaries to determine eligibility for care, deductibles, and co-payments and by Health Affairs for program planning and management.

Affected Public: Dependents of Active Duty members, military retirees and their dependents, civilians who present at an MTF on an emergency basis, and anyone else who is otherwise eligible for care at the MTF who have coverage from private insurance for medical care.

Annual Burden Hours: 140,361 hours.

Number of Respondents: 2,807,212.

Responses per Respondent: 1.

Average Burden per Response: 3 minutes.

Frequency: Annually or on occasion when insurance information changes.

SUPPLEMENTARY INFORMATION:

Summary of Information Collection

The administration has placed increased emphasis upon recovery of health care expenses under the Third Party Collection Program, as authorized by Title 10, Section 1095 and 1097b of the United States Code. Completion of this form, while increasing total burden hours, will aid in increasing revenues (O&M dollars), services, and operating efficiency and effectiveness within the Military Health Services System. This information is collected either during the inpatient stay admission and/or discharge process or during the visit when a patient presents for an outpatient procedure.

Dated: August 14, 2006.
Patricia L. Toppings,
Alternate OSD Federal Register Liaison Officer, Department of Defense.

[FR Doc. 06-7041 Filed 8-18-06; 8:45 am]

BILLING CODE 5001-06-M